DEPARTMENT OF COMMERCE

International Trade Administration

[A-570-873; A-791-815]

Ferrovanadium From the People's Republic of China and the Republic of South Africa: Continuation of Antidumping Duty Orders

AGENCY: Enforcement and Compliance, International Trade Administration, Department of Commerce.

SUMMARY: As a result of determinations by the Department of Commerce (the “Department”) and the International Trade Commission (the “ITC”) that revocation of the antidumping duty orders on ferrovanadium from the People's Republic of China (“PRC”) and the Republic of South Africa (“South Africa”) would likely lead to a continuation or recurrence of dumping and material injury to an industry in the United States, the Department is publishing a notice of continuation of these antidumping duty orders.

DATES: Effective Date: February 18, 2015.

FOR FURTHER INFORMATION CONTACT: Jonathan Hill or Howard Smith, AD/CVD Operations, Office IV, Enforcement and Compliance, International Trade Administration, U.S. Department of Commerce, 14th Street and Constitution Avenue NW., Washington, DC 20230; telephone: 202-482-3518 or 202-482-5193, respectively.

SUPPLEMENTARY INFORMATION:

Background

On November 1, 2013, the Department published a notice of initiation of the second sunset reviews of the antidumping duty orders on ferrovanadium from the PRC and South Africa, pursuant to section 751(c) of the Tariff Act of 1930, as amended (the “Act”).¹ As a result of its reviews, the Department determined that revocation of the antidumping duty orders on ferrovanadium from the PRC and South Africa would likely lead to continuation or recurrence of dumping and notified the ITC of the magnitude of the margins likely to prevail should the orders be revoked.² On February 3, 2015, the ITC published its determination, pursuant to section 751(c) of the Act, that revocation of the antidumping duty orders on ferrovanadium from the PRC and South Africa would likely lead to continuation or recurrence of material injury to an industry in the United States within a reasonably foreseeable time.³

¹ See Initiation of Five-Year (“Sunset”) Review, 78 FR 65614 (November 1, 2013).

² See Ferrovanadium from the People's Republic of China and the Republic of South Africa: Final Results of the Expedited Second Sunset Reviews of the Antidumping Duty Orders, 79 FR 14216 (March 13, 2014).

³ See Ferrovanadium from China and South Africa; Determinations, 80 FR 5787 (February 3, 2015).

Scope of the Orders

The scope of these orders covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitride vanadium, vanadium-aluminum master alloys, vanadium chemicals, vanadium oxides, vanadium waste and scrap, and vanadium-bearing raw materials such as slag, boiler residues and fly ash. Merchandise under the following Harmonized Tariff Schedule of the United States (“HTSUS”) item numbers 2850.00.2000, 8112.40.3000, and 8112.40.6000 are specifically excluded. Ferrovanadium is classified under HTSUS item number 7202.92.00. Although the HTSUS item number is provided for convenience and Customs purposes, the Department's written description of the scope of these orders remains dispositive.

Continuation of the Orders

As a result of the determinations by the Department and the ITC that revocation of the antidumping duty orders would likely lead to continuation or recurrence of dumping and material injury to an industry in the United States, pursuant to section 751(d)(2) of the Act, the Department hereby orders the continuation of the antidumping orders on ferrovanadium from the PRC and South Africa. U.S. Customs and Border Protection will continue to collect antidumping duty cash deposits at the rates in effect at the time of entry for all imports of subject merchandise.

The effective date of the continuation of the orders will be the date of publication in the Federal Register of this notice of continuation. Pursuant to section 751(c)(2) of the Act, the Department intends to initiate the next five-year review of the orders not later than 30 days prior to the fifth anniversary of the effective date of continuation.

These five-year sunset reviews and this notice are in accordance with section 751(c) of the Act and published pursuant to section 777(i)(1) of the Act and 19 CFR 351.218(f)(4).

Dated: February 6, 2015.
Paul Piquado,
Assistant Secretary for Enforcement and Compliance.

[FR Doc. 2015-03336 Filed 2-17-15; 8:45 am]

BILLING CODE 3510-DS-P